DEPARTMENT OF DEFENSE

Department of the Army, Corps of Engineers

Notice of Intent/NEPA Scoping Meeting and Public Comment Period for the Grand River Habitat Restoration and Invasive Species Control Project, Grand Rapids, Michigan

AGENCY: Department of the Army, U.S. Army Corps of Engineers, DoD.

ACTION: Notice of intent.

SUMMARY: Pursuant to the requirements of the National Environmental Policy Act (NEPA) of 1969, as implemented by the Council on Environmental Quality Regulations, the U.S. Army Corps of Engineers (USACE) Detroit District, announces its intent to conduct public scoping and solicit public comments to gather information to prepare a draft Environmental Impact Statement (EIS) on behalf of the Great Lakes Fishery Commission (GLFC) related to the proposed Grand River Habitat Restoration and Invasive Species Control Project in Grand Rapids, Michigan. The project must provide a means to block sea lamprey from moving upstream, as this invasive species is currently blocked by the existing 6th Street Dam in the Grand River, must maintain or reduce the current risk of flooding upstream, and must provide for fish passage into upstream areas. If implemented, the project is expected to adversely impact existing healthy mussel population, which includes the federally-listed endangered scaleshell and snuffbox mussels as well as a number of state-listed mussel species.

DATES: Comments for consideration in the development of the scope of the NEPA draft EIS are due no later than May 15, 2019. Comments may also be made at the public scoping meeting as noted below. All comments and materials received, including names and addresses, will become part of the administrative record and may be released to the public.

ADDRESSES: The public is invited to submit written comments at the meeting and/or to Mr. Charles A. Uhlarik, Department of the Army, U.S. Army Corps of Engineers, Detroit District, Environmental Analysis Branch, 477 Michigan Avenue, Detroit, MI 48226 or via email to: Comments-Grand-River@usace.army.mil.

FOR FURTHER INFORMATION CONTACT: Mr. Charles A. Uhlarik, 313-226-2476.

SUPPLEMENTARY INFORMATION: The U.S. Fish and Wildlife Service (USFWS) and the GLFC are tasked with protecting federally endangered species and managing invasive sea lamprey populations in the Great Lakes, respectively. These agencies approached the USACE, Detroit District to assist with the evaluation of the proposed project due to the potential for constructing a new sea lamprey control structure on the Grand River and potential for modifications of the existing barrier to sea lamprey at 6th Street Dam. Therefore, the USACE, Detroit District is preparing this draft EIS on behalf of the GLFC, and is a cooperating agency in the NEPA process based on the Detroit District's expertise in flood risk management and in sea lamprey barrier design. The USFWS is also a cooperating agency because of the anticipated impacts to federally-listed endangered mussels. While USACE, Detroit District will be conducting the public scoping associated with the draft EIS and the preparation of the draft and final EIS, the GLFC will ultimately be responsible for signing a Record of Decision at the end of this process as the lead agency for this effort.

Proposed Project: A draft EIS is being proposed for a multipurpose restoration project in the Grand River, in downtown Grand Rapids, Michigan. The intent of the project is to restore, enhance, and maintain the rapids in the Grand River from upstream of Ann Street to Fulton Street, and may include habitat, recreation and invasive species control features.

Proposed Project Purpose and Need: The ecosystem processes and recreational functions of the Grand River have been degraded by channelization, dredging, and urban development in the reach that flows through the city of Grand Rapids. A series of five low-head dams and more than a mile of floodwalls on both sides of the river have constrained the physical, chemical, and biological processes of the river ecosystem within this highly urbanized reach of the river. Only one percent of riparian areas in the lower peninsula of Michigan is comprised of rapids-type habitat, which is critical to the lifecycle of many aquatic species. Furthermore, the rapids have a significant economic benefit associated with outdoor recreation.

Alternatives: There is a vested interest by local stakeholders in restoring the rapids habitat in this stretch of the Grand River in downtown Grand Rapids. A healthy mussel population, that includes the federally-listed endangered scaleshell and snuffbox mussels as well as a number of state-listed mussel species, is expected to be adversely impacted by this project, based on mussel surveys conducted in 2016 and informal consultation with the USFWS. Project alternatives must take into account the impacted mussels as well as providing a means to block sea lamprey from moving upstream, as this invasive species is currently blocked by the existing 6th Street Dam in the Grand River, must maintain or reduce the current risk of flooding upstream, and must provide for fish passage into upstream areas. An outcome of the NEPA public scoping process is the formulation/development of a range of project alternatives based on public input and agency expertise so that the project can be developed in a manner that is consistent with sound engineering practice and meets all applicable environmental laws and regulations. The draft EIS will consider the direct, indirect, and cumulative impacts of alternatives on affected resources that are identified during the scoping process, including, but are not limited to: Water quality, stream flows, air quality, fish and wildlife (including federally-listed endangered species and their designated critical habitat), floodplains, wetlands, climate, cultural resources, and social and economic resources such as noise, aesthetics, environmental justice.

Scoping Process/Public Involvement: The USACE, Detroit District is issuing this notice, on behalf of the GLFC to: (1) Inform other Federal and state agencies, tribes, and the public of their plan to analyze effects related to implementation of the Grand River Habitat Restoration and Invasive Species Control Project in Grand Rapids, Michigan; (2) obtain suggestions and information that may inform the scope of issues and range of alternatives to evaluate in the draft EIS; (3) request input on potential effects to federally-listed endangered species and their critical habitat in accordance with the Endangered Species Act; and (4) provide notice and request input on potential effects on historic properties in accordance with Section 106 of the National Historic Preservation Act (NHPA).

The scoping process will help identify reasonable prudent alternatives, facilitate the evaluation of potential effects to the human and natural environments and key issues of concern to be analyzed in the draft EIS. The USACE, Detroit District, on behalf of the GLFC, intends to comply with the requirements of the Endangered Species Act by undergoing formal Section 7 Consultation with the USFWS. Additionally, the USACE, Detroit District, on behalf of the GLFC, intends to comply with the requirements of Section 106 of the NHPA in parallel with the NEPA process. The USACE, Detroit District invites federal, state, and local agencies, federally-recognized Native American Tribes, the State Historic Preservation Office, other interested parties, and the general public to participate in the NEPA scoping process for the preparation of this draft EIS by attending meetings and/or submitting written comments.

The NEPA Public Scoping open house style meeting will be held at the DeVos Place Convention Center, 303 Monroe Avenue NW, Grand Rapids, MI 49503 on Monday, April 8, 2019 from 3:30 p.m. until 7:30 p.m. to provide information to the public, serve as a mechanism to solicit agency and public input to develop alternatives and issues of concern, and ensure full and open participation in scoping of the draft EIS. A short, informal presentation will be held at 4:00 p.m. and 6:00 p.m. to provide more detail on the project. Written comments will also be requested. Additional information related to the public scoping process will be provided through news releases to the media, advertisements placed in regional/local newspapers of general circulation, Public Notice, and/or on the project website at: https://www.lre.usace.army.mil/Missions/Environmental-Services/.

Upon completion of the scoping process, the draft EIS will be developed and circulated for public review and comment. The USACE Detroit District expects to release the draft EIS for public review and comment in late 2019. The USACE Detroit District will issue a Notice of Availability in the Federal Register announcing the release of the draft EIS for public comment through news releases to the media, advertisements placed in regional/local newspapers of general circulation, Public Notice, and/or on the project website listed above.

Charles A. Uhlarik,
Chief, Environmental Analysis Branch, USACE, Detroit District.

[FR Doc. 2019-04864 Filed 3-14-19; 8:45 am]

BILLING CODE 3720-58-P